DEPARTMENT OF THE INTERIOR

Fish and Wildlife Service

[FWS-R2-ES-2009-N271; 20124-1113-0000-F5]

Endangered and Threatened Species Permit Applications

AGENCY: Fish and Wildlife Service, Interior.

ACTION: Notice of receipt of applications; request for public comment.

SUMMARY: The following applicants have applied for scientific research permits, or the Fish and Wildlife Service is amending their existing permit, to conduct certain activities with endangered species under the Endangered Species Act of 1973, as amended (Act). The Act requires that we invite public comment on these permit applications.

DATES: To ensure consideration, written comments must be received on or before February 12, 2010.

ADDRESSES: Written comments should be submitted to the Chief, Endangered Species Division, Ecological Services, P.O. Box 1306, Room 6034, Albuquerque, NM 87103. Documents and other information submitted with these applications are available for review, subject to the requirements of the Privacy Act and Freedom of Information Act. Documents will be available for public inspection, by appointment only, during normal business hours at the U.S. Fish and Wildlife Service, 500 Gold Ave., SW., Room 6034, Albuquerque, NM. Please refer to the respective permit number for each application when submitting comments.

FOR FURTHER INFORMATION CONTACT: Susan Jacobsen, Chief, Endangered Species Division, P.O. Box 1306, Albuquerque, NM 87103; (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-233201

Applicant: Amistad National Recreation Area, Del Rio, Texas.

Applicant requests a new permit for research and recovery purposes to conduct presence/absence surveys for interior least tern (Sterna antillarum) within Texas.

Permit TE-227505

Applicant: Thomas D. Bonn, Lockhart, Texas.

Applicant requests a new permit for research and recovery purposes to conduct presence/absence surveys for golden-cheeked warbler (Dendroica chrysoparia) and black-capped vireo (Vireo atricapilla) within Texas.

Permit TE-841353

Applicant: Loomis Partners, Inc., Austin, Texas.

Applicant requests an amendment to a current permit for research and recovery purposes to conduct presence/absence surveys for northern aplomado falcon (Falco femoralis septentrionalis) within Texas.

Permit TE-045236

Applicant: SWCA Inc., Albuquerque, New Mexico.

Applicant requests an amendment to a current permit for research and recovery purposes to conduct presence/absence surveys for Virgin River chub (Gila seminuda) and woundfin (Plagopterus argentissimus) within Arizona.

Permit TE-232639

Applicant: Dixie Environmental Services Co., LP, Magnolia, Texas.

Applicant requests a new permit for research and recovery purposes to conduct presence/absence surveys for red-cockaded woodpecker (Picoides borealis) and white bladderpod (Lesquerella pallid) within Texas.

Permit TE-227505

Applicant: Kathleen O'Connor, Georgetown, Texas.

Applicant requests a new permit for research and recovery purposes to conduct presence/absence surveys for northern aplomado falcon (Falco femoralis septentrionalis) within Texas.

Permit TE-821577

Permittee: Arizona Game and Fish Department, Phoenix, Arizona.

The Service is amending Arizona Game and Fish Department's current permit for research and recovery purposes for the range of activities they undertake; including, but not limited to, presence/absence surveys, research, and reestablishment of the following species: Kanab ambersnail (Oxyloma haydeni kanabensis), lesser long-nosed bat (Leptonycteris curasoae yerbabuenae), Mexican long-nosed bat (Leptonycteris nivalis), masked bobwhite (Colinus virginianus ridgwayi), bonytail chub (Gila elegans), Gila chub (Gila intermedia), humpback chub (Gila cypha), Colorado pikeminnow (Ptychocheilus lucius), Quitobaquito pupfish (Cyprinodon eremus), Virgin River chub (Gila seminuda), woundfin (Plagopterus argentissimus),Yaqui chub (Gila purpurea), Yaqui topminnow (Poeciliopsis occidentalis sonoriensis), California condor (Gymnogyps californianus), northern aplomado falcon (Falco femoralis septentrionalis), thick-billed parrot (Rhynchopsitta pachyrhyncha), black-footed ferret (Mustela nigripes), southwestern willow flycatcher (Empidonax traillii extimus), California least tern (Sterna antillarum browni), jaguar (Pathera onca), jaguarundi (Herpailurus yagouaroundi tolteca), ocelot (Leopardus pardalis), Sonoran pronghorn (Antilocapra americana sonoriensis), desert pupfish (Cyprinodon macularius), Yuma clapper rail (Rallus longirostris yumanensis), Sonoran tiger salamander (Ambystoma tigrinum stebbinsi), Mount Graham red squirrel (Tamiasciurus hudsonicus grahamensis), razorback sucker (Xyrauchen texanus), Gila topminnow (Poeciliopsis occidentalis), Hualapai Mexican vole (Microtus mexicanus hualpaiensis), gray wolf (Canis lupus), Kearney's blue-star (Amsonia kearneyana), Arizona hedgehog cactus (Echinocereus triglochidiatus var. arizonicus), Brady pincushion cactus (Pediocactus bradyi), Nichol's Turk's head cactus (Echinocactus horizonthalonius var. nicholii), Peebles Navajo cactus (Pediocactus peeblesianus var. peeblesianus), Pima pineapple cactus (Coryphantha scheeri var. robustispina), Arizona cliff-rose (Purshia subintegra), Canelo Hills ladies'-tresses (Spiranthes delitescens), Holmgren milk-vetch (Astragalus holmgreniorum), sentry milk-vetch (Astragalus cremnophylax var. cremnophylax), and Huachuca water umbel (Lilaeopsis schaffneriana var. recurva).

Authority: 16 U.S.C. 1531 et seq.

Dated: January 6, 2010.
Benjamin N. Tuggle,
Regional Director, Southwest Region, Fish and Wildlife Service.

[FR Doc. 2010-451 Filed 1-12-10; 8:45 am]

BILLING CODE 4310-55-P